DEPARTMENT OF COMMERCE

National Oceanic and Atmospheric Administration

50 CFR Part 622

[Docket No. 1206013412-2517-02]

RIN 0648-XD422

Reef Fish Fishery of the Gulf of Mexico; 2014 Commercial and Recreational Accountability Measures and Closures for Gulf of Mexico Greater Amberjack

AGENCY: National Marine Fisheries Service (NMFS), National Oceanic and Atmospheric Administration (NOAA), Commerce.

ACTION: Temporary rule; closure.

SUMMARY: NMFS implements accountability measures (AMs) for commercial and recreational greater amberjack in the Gulf of Mexico (Gulf) reef fish fishery for the 2014 fishing year through this temporary final rule. This rule adjusts the 2014 recreational annual catch target (ACT) (equal to the recreational quota) and annual catch limit (ACL), based on final landings data from 2013, and closes the commercial and recreational sectors for Gulf greater amberjack. NMFS has determined that the commercial and recreational annual catch targets (ACTs) (equal to the commercial and recreational quotas, respectively) for Gulf greater amberjack will be reached by August 24, 2014. Therefore, NMFS closes the commercial and recreational sectors for greater amberjack in the Gulf exclusive economic zone (EEZ) at 12:01 a.m., local time, August 25, 2014, until January 1, 2015. These closures are necessary to protect the Gulf greater amberjack resource.

DATES: This rule is effective 12:01 a.m., local time on August 25, 2014, until 12:01 a.m., local time on January 1, 2015, unless changed by subsequent notification in the Federal Register.

FOR FURTHER INFORMATION CONTACT: Rich Malinowski, Southeast Regional Office, telephone 727-824-5305, email rich.malinowski@noaa.gov.

SUPPLEMENTARY INFORMATION: NMFS manages the reef fish fishery of the Gulf, which includes greater amberjack, under the Fishery Management Plan for the Reef Fish Resources of the Gulf (FMP). The Gulf of Mexico Fishery Management Council (Council) prepared the FMP and NMFS implements the FMP under the authority of the Magnuson-Stevens Fishery Conservation and Management Act (Magnuson-Stevens Act) by regulations at 50 CFR part 622. All greater amberjack weights discussed in this temporary rule are in round weight, which are equal to whole weight.

The commercial ACL for Gulf greater amberjack is 481,000 lb (218,178 kg), as specified in 50 CFR 622.41(a)(1), and the commercial ACT (equivalent to the commercial quota) is 409,000 lb (185,519 kg), as specified in 50 CFR 622.39(a)(1)(v).

The 2014 recreational ACL for Gulf greater amberjack is 1,299,000 lb (589,216 kg) and the recreational ACT (recreational quota) is 1,130,000 lb (512,559 kg) as specified in 50 CFR 622.41(a)(2)(iii) and 50 CFR 622.39(a)(2)(ii), respectively. However, because preliminary landings data indicated an overage of the recreational ACL of 267,488 lb (121,331 kg) in 2013, NMFS implemented AMs to reduce the recreational ACT and ACL in 2014. The recreational ACT was reduced to 862,512 lb (391,229 kg) for 2014 and the recreational ACL was reduced to 1,031,512 lb (467,886 kg) for 2014 through a temporary rule (79 FR 22594, April 23, 2014). Landings data for the recreational sector were finalized in May 2014, and NMFS determined the final recreational overage was 241,171 lb (109,393 kg). Therefore, this rule increases the recreational ACL for 2014 to 1,057,829 lb (479,823 kg), and increases the recreational ACT for 2014 to 888,829 lb (403,166 kg).

Under 50 CFR 622.41(a)(1)(i) and 50 CFR 622.41(a)(2)(i), NMFS is required to close the commercial and recreational sectors for greater amberjack, respectively, when the commercial ACT and recreational ACT, respectively, are reached, or are projected to be reached, by filing a notification to that effect with the Office of the Federal Register. NMFS has determined the 2014 commercial ACT and the 2014 recreational ACT will be reached by August 24, 2014. Accordingly, NMFS closes the commercial and recreational sectors for Gulf greater amberjack effective 12:01 a.m., local time, August 25, 2014, until 12:01 a.m., local time, January 1, 2015, unless changed by subsequent notification in the Federal Register.

The operator of a vessel with a valid commercial vessel permit for Gulf reef fish having greater amberjack aboard must have landed, bartered, traded, or sold such greater amberjack prior to 12:01 a.m., local time, August 25, 2014. During the commercial closure, the sale or purchase of greater amberjack taken from the EEZ is prohibited. During the recreational closure, the bag and possession limit of greater amberjack in or from the Gulf EEZ is zero. The prohibition on sale or purchase and the bag and possession limit apply in the Gulf on board a vessel for which a valid Federal charter vessel/headboat permit for Gulf reef fish has been issued, without regard to where such species were harvested, i.e. in state or Federal waters. The prohibition on sale or purchase does not apply to the sale or purchase of greater amberjack that were harvested, landed ashore, and sold prior to 12:01 a.m., local time, August 25, 2014, and were held in cold storage by a dealer or processor.

The commercial and recreational sectors for greater amberjack will reopen on January 1, 2015, the beginning of the 2015 commercial and recreational fishing seasons.

Classification

The Regional Administrator, Southeast Region, NMFS, has determined this temporary rule is necessary for the conservation and management of Gulf greater amberjack and is consistent with the Magnuson-Stevens Act and other applicable laws.

This action is taken under 50 CFR 622.41(a)(1) and (2) and is exempt from review under Executive Order 12866.

These measures are exempt from the procedures of the Regulatory Flexibility Act because the temporary rule is issued without opportunity for prior notice and comment.

This action responds to the best scientific information available. Pursuant to 5 U.S.C. 553(b)(B), there is good cause to waive the requirements to provide prior notice and opportunity for public comment on this temporary rule because such procedures are unnecessary and contrary to the public interest. Prior notice and opportunity for public comment is unnecessary because the AMs specified in 50 CFR 622.39(a)(1)(v) and (a)(2)(ii) state that NMFS will file a notification with the Office of the Federal Register to close the commercial and recreational sectors for Gulf greater amberjack for the remainder of the fishing year if commercial and recreational landings, respectively, reach or are projected to reach the commercial recreational ACTs, respectively. All that remains is to notify the public of the reduced commercial and recreational fishing seasons for greater amberjack for the remainder of the fishing year.

Allowing prior notice and opportunity for public comment is contrary to the public interest because of the need to immediately implement this action to protect the greater amberjack resource. Any delay in the closure of the commercial and recreational sectors could result in the ACLs being exceeded. The AMs state that if commercial and recreational landings exceed the ACL, NMFS will file a notification with the Office of the Federal Register, at or near the beginning of the following fishing year, to reduce the commercial and recreational ACLs and the ACTs for that following fishing year by the amount of the ACL overages in the prior fishing year. Reducing the commercial and recreational ACLs and ACTs the following fishing season could be disruptive to business plans and would provide less flexibility to fishermen.

For the aforementioned reasons, the Assistant Administrator, NMFS, also finds good cause to waive the 30-day delay in the effectiveness of this action under 5 U.S.C. 553(d)(3).

Authority: 16 U.S.C. 1801 et seq.

Dated: August 11, 2014.
Emily H. Menashes,
Acting Director, Office of Sustainable Fisheries, National Marine Fisheries Service.

[FR Doc. 2014-19343 Filed 8-12-14; 11:15 am]

BILLING CODE 3510-22-P